DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: November 15, 2007, 9 a.m.-5 p.m.

November 16, 2007, 9 a.m.-4 p.m.

Place: Doubletree Executive Hotel and Meeting Center, 8120 Wisconsin Avenue, Bethesda, MD 20814.

Status: The meeting will be open to the public.

Agenda: Agency and Bureau administrative updates will be provided. The purpose of the meeting will be to examine the issues facing nursing education in relation to teaching and learning strategies, the needs of employers and consumers for high quality professional nursing care across the lifespan and in a variety of settings, and nursing curricula to prepare the nursing student at the basic level (associate degree, diploma, and baccalaureate degree) to practice in a changing health care system. The objectives of the meeting are to: (1) Examine the most effective and relevant teaching and learning methods and strategies focusing on Competency Outcomes and Performance Assessment for students in the practice disciplines; (2) identify knowledge, skills, and abilities needed by the 21st century RN workforce as seen through the eyes of employers and consumers; and (3) examine nursing curricula among all three basic RN programs {associate degree, diploma and baccalaureate programs} to understand similarities and differences in the respective programs and their ability to prepare the 21st century nursing student for professional practice.

During this meeting, the NACNEP council members will deliberate as workgroups on the content presented and formulate recommendations to the Secretary of Health and Human Services and the Congress on teaching and learning strategies for future nursing students and nursing competencies required by employers and consumers. This meeting and the meeting held in April 2008 will form the basis for NACNEP's congressionally mandated Ninth Annual Report.

For Further Information Contact: Anyone interested in obtaining a roster of members, minutes of the meeting, or other relevant information should write or contact Dr. Joan Weiss, Executive Secretary, National Advisory Council on Nurse Education and Practice, Parklawn Building, Room 9-35, 5600 Fishers Lane, Rockville, Maryland 20857, telephone (301) 443-5688.

Due to a delay in confirming several key speakers, this notice will publish in the Federal Register less than 15 days before the date of the meeting.

Dated: November 5, 2007.
Alexandra Huttinger,
Acting Director, Division of Policy Review and Coordination.

[FR Doc. E7-21978 Filed 11-8-07; 8:45 am]

BILLING CODE 4165-15-P